DEPARTMENT OF HOMELAND SECURITY

Coast Guard

[USCG 2001-9269]

Guidance for Assessing Merchant Mariners Through Demonstrations of Proficiency as Officers in Charge of Engineering Watches in Manned Engine-Rooms or as Designated Duty Engineers in Periodically Unmanned Engine-Rooms

AGENCY: Coast Guard, DHS.

ACTION: Notice of availability and request for public comments.

SUMMARY: The Coast Guard announces the availability of the national performance measures proposed here for use as guidelines when mariners demonstrate their proficiency as officers in charge of engineering watches in manned engine-rooms or as designated duty engineers in periodically unmanned engine-rooms. Because of the comments submitted to the original docket published on April 5, 2001, the Coast Guard is re-publishing these measures. They were developed from recommendations and input provided by the Merchant Marine Personnel Advisory Committee (MERPAC). We again request your comments on them.

DATES: Comments and related material must reach the Docket Management Facility on or before October 14, 2003.

ADDRESSES: You may submit comments identified by Coast Guard docket number USCG-2001-9269 to the Docket Management Facility at the U.S. Department of Transportation. To avoid duplication, please use only one of the following methods:

(1) Web Site: http://dms.dot.gov.

(2) Mail: Docket Management Facility, U.S. Department of Transportation, 400 Seventh Street, SW., Washington, DC 20590-0001.

(3) Fax: 202-493-2251.

(4) Delivery: Room PL-401 on the Plaza level of the Nassif Building, 400 Seventh Street, SW., Washington, DC, between 9 a.m. and 5 p.m., Monday through Friday, except Federal holidays. The telephone number is 202-366-9329.

(5) Federal eRulemaking Portal: http://www.regulations.gov.

The Docket Management Facility maintains the public docket for this notice. Comments and material received from the public will become part of this docket and will be available for inspection or copying at room PL-401 on the Plaza level of the Nassif Building, 400 Seventh Street SW., Washington, DC, between 9 a.m. and 5 p.m., Monday through Friday, except Federal holidays. You may also find this docket on the Internet at http://dms.dot.gov.

FOR FURTHER INFORMATION CONTACT: If you have questions on this notice, write or call Mr. Gould where indicated under ADDRESSES. If you have questions on viewing or submitting materials to the docket, call Ms. Dorothy Beard, Chief, Dockets, Department of Transportation, telephone 202-366-5149.

SUPPLEMENTARY INFORMATION:

Public Participation and Request for Comments

We encourage you to submit comments. All comments received will be posted, without change, to http://dms.dot.gov and will include any personal information you have provided. We have an agreement with the Department of Transportation (DOT) to use the Docket Management Facility. Please see DOT's “Privacy Act” paragraph below.

Submitting comments: If you submit a comment, please include your name and address, identify the docket number for this rulemaking (USCG-2001-9269), indicate the specific section of this document to which each comment applies, and give the reason for each comment. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments received during the comment period. We may change these national performance measures in view of them.

Viewing comments and documents: To view comments, as well as documents mentioned in this preamble as being available in the docket, go to http://dms.dot.gov at any time and conduct a simple search using the docket number. You may also visit the Docket Management Facility in room PL-401 on the Plaza level of the Nassif Building, 400 Seventh Street, SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

What Action Is the Coast Guard Taking?

Section A-III/1 of the Code accompanying the International Convention on Standards of Training, Certification and Watchkeeping for Seafarers (STCW), 1978, as amended in 1995, articulates qualifications for ensuring merchant mariners' attaining the minimum standard of competence through demonstrations of their proficiency as officers in charge of engineering watches in manned engine-rooms or as designated duty engineers in periodically unmanned engine-rooms. The Coast Guard tasked MERPAC with referring to the Section, modifying and specifying it as it deemed necessary, and recommending national performance measures. The Coast Guard reviewed the measures recommended by MERPAC and developed a set of guidelines for assessing proficiency. Those guidelines were published in the original docket on April 5, 2001. A number of comments were made on that proposal and we have now modified those guidelines to incorporate many of the comments. We are now proposing these modified guidelines here for use as the final guidelines for assessing proficiency.

The guidelines are set up as follows: First, we set forth the Competency within the STCW a mariner should demonstrate to meet the STCW section. Next we give a series of examples of Performance Conditions, a set of Performance Behaviors for each Performance Condition, and a set of Performance Standards for each Performance Behavior.

For example, if the Competency to demonstrate is: “Use appropriate tools for fabrication and repair * * * typically performed on ships”—

A Performance Condition for that competency demonstrating knowledge, understanding, and proficiency is: In a workshop [or] laboratory or other safe working environment, given proper tools, lighting, [and] ventilation, and a thin steel plate of no less than ¼ inch thickness, * * *

A Performance Behavior for that Condition is: * * * the candidate will plan, prepare, and safely cut out a circular blank flange with four 7/16″ bolt-holes 90 degrees apart and corresponding to the dimensions of a two-inch pipe flange, or similar multi-tasked project using oxyacetylene process, and describe actions as they are being performed.

A Performance Standard for that Behavior is—or, in this example, the Standards are—“The applicant (1) correctly plans for and lays out the job, in proper sequence, and incorporates all safety considerations; (2) sets up all required equipment; (3) cuts the hole uniformly according to plan within tolerance of +/−⅛ inch; and (4) ensures that no safety violations occur.”

If the mariner properly meets all of the Performance Standards, he or she passes the practical demonstration. If he or she fails to carry out any of the Standards, he or she fails it.

Why Is the Coast Guard Taking This Action?

The Coast Guard is taking this action to comply with STCW, as amended in 1995 and 1997 and incorporated into domestic regulations at 46 CFR parts 10, 12, and 15 in 1997 and since. Guidance from the International Maritime Organization on shipboard assessments of proficiency suggests that Parties develop standards and measures of performance for practical tests as part of their programs for training and assessing seafarers.

How May I Participate In This Action?

We are requesting your comments on these proposed national performance measures. You may participate in this action by submitting comments and related material on the national performance-measures proposed here. (Although the Coast Guard does not seek public comment on the measures recommended by MERPAC, as distinct from the measures proposed here, those measures are available on the Internet at the home page of MERPAC, http://www.uscg.mil/hq/g-m/advisory/merpac/merpac.htm.) These measures are available on the Internet at http://dms.dot.gov, under this docket number [USCG 2001-9269]. They are also available from Mr. Gould where indicated under ADDRESSES. If you submit written comments please include—

• Your name and address;

• The docket number for this notice [USCG 2001-9269];

• The specific section of the measures to which each comment applies; and

• The reason for each comment.

You may mail, deliver, fax, or electronically submit your comments and related material to the Docket Management Facility, using an address or fax number listed in ADDRESSES. (But please do not submit the same comment or material more than once.) If you mail or deliver your comments and material, they must be on 8½-by-11-inch paper, and the quality of the copy should be clear enough for copying and scanning. If you mail your comments and material and would like to know whether the Facility received them, please enclose a stamped, self-addressed postcard or envelope. The Coast Guard will consider all comments and material received during the 60-day comment period.

Your comments will be considered in preparing the final version of the national performance measures which will be used as guidelines by the general public. Individuals and institutions assessing the competence of mariners may refine the final version of these measures and develop innovative alternatives. If you vary from the final version of these measures, however, you should submit your alternative to the National Maritime Center for approval by the Coast Guard under 46 CFR 10.303(e) before you use it as part of an approved course or training program.

Dated: July 25, 2003.
Joseph J. Angelo,
Director of Standards, Marine Safety, Security & Environmental Protection.

[FR Doc. 03-20466 Filed 8-11-03; 8:45 am]

BILLING CODE 4910-15-U